DEPARTMENT OF COMMERCE

National Oceanic and Atmospheric Administration

50 CFR Part 648

[Docket No. 140117052-4402-02]

RIN 0648-XE449

Fisheries of the Northeastern United States; Summer Flounder Fishery; Quota Transfer

AGENCY: National Marine Fisheries Service (NMFS), National Oceanic and Atmospheric Administration (NOAA), Commerce.

ACTION: Temporary rule; quota transfer.

SUMMARY: NMFS announces that the State of North Carolina is transferring portions of its 2016 commercial summer flounder quota to the States of New Jersey and Rhode Island, and the Commonwealths of Virginia and Massachusetts. These quota adjustments are necessary to comply with the Summer Flounder, Scup and Black Sea Bass Fishery Management Plan quota transfer provision. This announcement informs the public of the revised commercial quota for each state involved.

DATES: Effective March 7, 2016, through December 31, 2016.

FOR FURTHER INFORMATION CONTACT: Elizabeth Scheimer, Fishery Management Specialist, (978) 281-9236.

SUPPLEMENTARY INFORMATION: Regulations governing the summer flounder fishery are in 50 CFR 648.100 through 50 CFR 648.110. The regulations require annual specification of a commercial quota that is apportioned among the coastal states from Maine through North Carolina. The process to set the annual commercial quota and the percent allocated to each state are described in § 648.102.

The final rule implementing Amendment 5 to the Summer Flounder Fishery Management Plan, as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider the criteria in § 648.102(c)(2)(i)(A) through (C) in the evaluation of requests for quota transfers or combinations.

North Carolina is transferring a total of 64,978 lb (29,473 kg) of summer flounder commercial quota to the following states: New Jersey, 13,200 lb (5,987 kg); Massachusetts, 9,805 lb (4,447 kg); Virginia, 30,573 lb (13,868 kg); and Rhode Island, 11,400 lb (5,171 kg). These transfers were requested by the State of North Carolina to repay landings by North Carolina permitted vessels that landed in these other states under safe harbor agreements.

The revised summer flounder quotas for calendar year 2016 are: North Carolina, 2,164,731 lb (981,905 kg); Virginia, 1,762,354 lb (799,390 kg); Rhode Island, 1,285,491 lb (583,089 kg); Massachusetts, 563,902 lb (255,782 kg); and New Jersey, 1,371,944 lb (622,303 kg), based on the quotas published in the 2016-2018 Summer Flounder, Scup and Black Sea Bass Specifications, (December 28, 2015, 80 FR 80689).

Classification

This action is taken under 50 CFR part 648 and is exempt from review under Executive Order 12866.

Authority: 16 U.S.C. 1801 et seq.

Dated: March 3, 2016.
Emily H. Menashes,
Acting Director, Office of Sustainable Fisheries, National Marine Fisheries Service.

[FR Doc. 2016-05132 Filed 3-7-16; 8:45 am]

BILLING CODE 3510-22-P